NUCLEAR REGULATORY COMMISSION

[Docket No. 50-286]

Entergy Nuclear Operations, Inc.; Notice of Withdrawal of Application for Amendment to Facility Operating License

The U.S. Nuclear Regulatory Commission (the NRC/Commission) has granted the request of Entergy Nuclear Operations, Inc., to withdraw the Power Authority's of the State of New York (PASNY) the then licensee, November 29, 1999, application as supplemented October 27, 2000, for proposed amendment to Facility Operating License No. DPR-64 for the Indian Point Nuclear Generating Unit No. 3 (IP3), located in Westchester County, New York.

On November 21, 2000, PASNY's ownership interest in IP3 was transferred to Entergy Nuclear Operations, Inc. (Entergy) to possess, use, and operate IP3. By letter dated January 26, 2001, Entergy requested that the NRC continue to review and act on all requests before the Commission which had been submitted by PASNY before the transfer. Accordingly, the NRC staff continued its review of PASNY's license amendment application. Subsequently, by letter dated May 12, 2001, Entergy withdrew the amendment request.

The proposed amendment would have adopted the “Standard Test Method for Nuclear Grade Activated Carbon” for charcoal filter laboratory testing with certain exceptions.

The Commission had previously issued a Notice of Consideration of Issuance of Amendment published in the Federal Register on February 9, 2000 (65 FR 6409). However, by letter dated May 12, 2001, the licensee withdrew the proposed change.

For further details with respect to this action, see the application for amendment dated November 29, 1999, as supplemented October 27, 2000, and the licensee's letter dated May 12, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 9th day of August 2001.
For the Nuclear Regulatory Commission.
Guy S. Vissing,
Senior Project Manager, Section 1, Project Directorate I, Division of Licensing Project Management, Office of Nuclear Reactor Regulation.

[FR Doc. 01-20534 Filed 8-14-01; 8:45 am]

BILLING CODE 7590-01-P